DEPARTMENT OF TRANSPORTATION

Federal Aviation Administration

[Docket No. FAA-2025-1734

Notice of Intent To Designate as Abandoned John Benham Supplemental Type Certificate No. SA3866SW

AGENCY: Federal Aviation Administration (FAA), DOT.

ACTION: Notice of intent to designate as abandoned; request for comments.

SUMMARY: This notice announces the FAA's intent to designate John Benham Supplemental Type Certificate (STC) No. SA3866SW as abandoned and make the related engineering data available upon request. The FAA has received a request to provide engineering data concerning this STC. The FAA has been unsuccessful in contacting John Benham concerning the STC. This action is intended to enhance aviation safety.

DATES: The FAA must receive all comments by February 17, 2026.

ADDRESSES: You may send comments on this notice by any of the following methods:

• Federal eRulemaking Portal: Go to regulations.gov. Follow the instructions for submitting comments.

• Mail: JoAnn Murphy, AIR-761, FAA, Central Certification Branch, 2300 East Devon Avenue, Room 107, Des Plaines, IL 60018.

• Email: 9-AVS-CCB-Correspondence@faa.gov. Include “Docket No. FAA-2025-1734” in the subject line of the message.

• Hand Delivery: Deliver to Mail address above between 9 a.m. and 5 p.m., Monday through Friday, except Federal holidays.

FOR FURTHER INFORMATION CONTACT: JoAnn Murphy, Program Support Specialist, Central Certification Branch, FAA; telephone: (847) 294-7358; email: 9-AVS-CCB-Correspondence@faa.gov.

SUPPLEMENTARY INFORMATION:

Comments Invited

The FAA invites interested parties to provide comments, written data, views, or arguments relating to this notice. Send your comments using a method listed under the ADDRESSES section. Include “Docket No. FAA-2025-1734” at the beginning of your comments. The FAA will consider all comments received on or before the closing date. All comments received will be available in the docket for examination by interested persons.

Background

The FAA is posting this notice to inform the public that the FAA intends to designate as abandoned John Benham STC No. SA3866SW and subsequently release the related engineering data. John Benham STC No. SA3866SW is for a modified door latch, in Cessna Aircraft Model 170, 170A, and 170B airplanes.

The FAA has received a third-party request for the release of the aforementioned engineering data under the provisions of the Freedom of Information Act (FOIA), 5 U.S.C. 552. The FAA cannot release commercial or financial information under FOIA without the permission of the data owner. However, in accordance with 49 U.S.C. 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On April 10, 2025, the FAA sent a registered letter to John Benham at his last known address: 659 Madrona Road, Pipe Creek, TX 78063. The letter was returned, unable to be forwarded. The letter informed John Benham that the FAA had received a request for engineering data related to STC No. SA3866SW and was conducting a due diligence search to determine whether the STC was inactive and may be considered abandoned. The letter further requested John Benham to respond in writing within 60 days and state whether he is the holder of the STC.

Information Requested

If you are the owner or heir or a transferee of STC No. SA3866SW or have any knowledge regarding who may now hold STC No. SA3866SW, please contact JoAnn Murphy as described in this notice under FOR FURTHER INFORMATION CONTACT or using a method described under ADDRESSES. If you are the heir of the owner, or the owner by transfer, of STC No. SA3866SW, you must provide a notarized copy of your government-issued identification with a letter and background establishing your ownership of the STC and, if applicable, your relationship as the heir to the deceased holder of the STC.

Conclusion

If the FAA does not receive any response by February 17, 2026, the FAA will consider STC No. SA3866SW abandoned, and the FAA will proceed with the release of the requested data. This action is for the purpose of maintaining the airworthiness of an aircraft and enhancing aviation safety.

Issued on August 12, 2025.
Steven W. Thompson,
Acting Deputy Director Compliance & Airworthiness Division, Aircraft Certification Service.

[FR Doc. 2025-15723 Filed 8-18-25; 8:45 am]

BILLING CODE 4910-13-P